DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 25, 2011. Address written comments to Statutory Import Programs Staff, Room 3720, U.S. Department of Commerce, Washington, DC 20230. Applications may be examined between 8:30 a.m. and 5 p.m. at the U.S. Department of Commerce in Room 3720.

Docket Number: 11-032. Applicant: Southern Illinois University, Integrated Microscopy and Graphic Expertise (IMAGE) Center, 750 Communications Drive—Mailcode 4402, Carbondale, IL 62901. Instrument: Quanta 450 scanning electron microscope. Manufacturer: FEI Company, Czech Republic. Intended Use: The instrument will be used to study nanowires, nanocatalysts, nanotubes, nanolubricants, geological specimens, synthetic hip joints, and cellulose (wood chips), for their molecular components and properties. Justification for Duty-Free Entry: No instruments of the same general category, or instruments otherwise applicable for the intended purpose, are being manufactured in the United States. Application accepted by Commissioner of Customs: June 10, 2011.

Docket Number: 11-037. Applicant: Tulane University, 6823 St. Charles Avenue, New Orleans, LA 70118. Instrument: Field-emission transmission electron microscope. Manufacturer: FEI Company, the Netherlands. Intended Use: The instrument will enhance the research resources available to new faculty across a range of scientific and engineering disciplines doing a variety of research projects involving organic and inorganic materials at the nano, molecular and cellular levels. Justification for Duty-Free Entry: No instruments manufactured in the United States can meet the high-resolution, cryo-enabled and field-emission technical requirements for the intended uses. Application accepted by Commissioner of Customs: June 16, 2011.

Docket Number: 11-038. Applicant: Battelle Memorial Institute, Pacific Northwest National Laboratory, 3335 Q Avenue, Richland, WA 99354. Instrument: Scanning transmission electron microscope. Manufacturer: FEI Company, the Netherlands. Intended Use: The instrument will replace an old existing transmission electron microscope to meet the current technical requirements for research and study relating to geochemistry, nanostructured and energy-related materials, catalysis imaging, and structural and chemical composition. Justification for Duty-Free Entry: No instruments of the same general category, or instruments otherwise applicable for the intended purpose, are being manufactured in the United States. Application accepted by Commissioner of Customs: June 15, 2011.

Dated: June 28, 2011.
Gregory W. Campbell,
Director, Subsidies Enforcement Office, Office of Policy, Import Administration.

[FR Doc. 2011-16754 Filed 7-1-11; 8:45 am]

BILLING CODE 3510-DS-P